DEPARTMENT OF TRANSPORTATION

Federal Aviation Administration

14 CFR Part 39

[Docket No. FAA-2010-0958; Directorate Identifier 2010-NM-188-AD; Amendment 39-16641; AD 2011-07-04]

RIN 2120-AA64

Airworthiness Directives; The Boeing Company Model DC-9-14, DC-9-15, and DC-9-15F Airplanes; and DC-9-20, DC-9-30, DC-9-40, and DC-9-50 Series Airplanes

AGENCY: Federal Aviation Administration (FAA), DOT.

ACTION: Final rule.

SUMMARY: We are adopting a new airworthiness directive (AD) for the products listed above. This AD requires installing new in-line fuses for the fuel level float switch and new in-line fuses for the pressure switch, as applicable, and changing the wiring. The proposed actions would affect the left and right wing forward spars, center wing forward spar, forward auxiliary fuel tank, and aft auxiliary fuel tank, as applicable. This AD was prompted by fuel system reviews conducted by the manufacturer. We are issuing this AD to prevent the potential of ignition sources inside fuel tanks, which, in combination with flammable fuel vapors, could result in fuel tank explosions and consequent loss of the airplane.

DATES: This AD is effective May 6, 2011.

The Director of the Federal Register approved the incorporation by reference of a certain publication listed in the AD as of May 6, 2011.

ADDRESSES: For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Samuel Lee, Aerospace Engineer, Propulsion Branch, ANM-140L, FAA, Los Angeles Aircraft Certification Office, 3960 Paramount Boulevard, Lakewood, California 90712-4137; phone: 562-627-5262; fax: 562-627-5210, e-mail: Samuel.Lee@faa.gov.

SUPPLEMENTARY INFORMATION:

Discussion

We issued a notice of proposed rulemaking (NPRM) to amend 14 CFR part 39 to include an airworthiness directive (AD) that would apply to the specified products. That NPRM published in the Federal Register on October 8, 2010 (75 FR 62331). That NPRM proposed to require installing new in-line fuses for the fuel level float switch and new in-line fuses for the pressure switch, as applicable, and changing the wiring.

Comments

We gave the public the opportunity to participate in developing this AD. We considered the comments received.

Request Revision of FAA AD 2008-11-15

Aeropostal requested that we issue this AD as a revision to existing AD 2008-11-15. Aeropostal stated that the requirement of installing fuses in the proposed AD is incorporated by Boeing Critical Design Configuration Control Limitation (CDCCL) 20-13 of Twinjet Special Compliance Items Report, MDC-92K9145, Revision J, dated January 26, 2010.

We disagree with the request to revise AD 2008-11-15. AD 2008-11-15 requires incorporation of Boeing Twinjet Special Compliance Items Report, MDC-92K9145, Revision G, dated June 7, 2007, which does not include CDCCL 20-13. This proposed AD does not require incorporating CDCCL 20-13. This AD requires the installation of new in-line fuses for the fuel level float switch and new in-line fuses for the pressure switch. We might consider future rulemaking to revise AD 2008-11-15 to include CDCCL 20-13. No change has been made to AD 2008-11-15 or this AD in this regard.

Request for Clarification

Aeropostal requested clarification concerning the NPRM and whether it will satisfy the requirements of AD 2008-11-15.

We agree that clarification is needed. AD 2008-11-15 requires revising the maintenance program or the Airworthiness Limitations (AWL) section of the Instructions for Continued Airworthiness to incorporate new AWLs for fuel tank systems, in accordance with Boeing Twinjet Special Compliance Items Report, MDC-92K9145, Revision G, dated June 7, 2007. This AD has different requirements including the installation of new in-line fuses for the fuel level float switch and new in-line fuses for the pressure switches. No change has been made to this AD in this regard.

Explanation of Change Made to the AD

We have revised this AD to identify the legal name of the manufacturer as published in the most recent type certificate data sheet for the affected airplane models.

Conclusion

We reviewed the available data, including the comments received, and determined that air safety and the public interest require adopting the AD with the change described previously. We have determined that this change:

• Is consistent with the intent that was proposed in the NPRM for correcting the unsafe condition; and

• Does not add any additional burden upon the public than was already proposed in the NPRM.

We also determined that this change will not increase the economic burden on any operator or increase the scope of the AD.

Costs of Compliance

We estimate that this AD affects 275 airplanes of U.S. registry.

We estimate the following costs to comply with this AD:

Estimated Costs
Action | Labor cost | Parts cost | Cost per product | Cost on U.S. operators
Installation | Up to 17 work-hours × $85 per hour = Up to $1,445¹ | Between $289 and $1,449¹ | Between $1,734 and $2,894¹ | Between $476,850 and $795,850.¹
¹ Depending on airplane group as identified in Boeing Service Bulletin DC9-28-217, Revision 1, dated August 12, 2010.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-07-04 The Boeing Company: Amendment 39-16641; Docket No. FAA-2010-0958; Directorate Identifier 2010-NM-188-AD.

Effective Date

(a) This AD is effective May 6, 2011.

Affected ADs

(b) None.

Applicability

(c) This AD applies to The Boeing Company Model DC-9-14, DC-9-15, DC-9-15F, DC-9-21, DC-9-31, DC-9-32, DC-9-32 (VC-9C), DC-9-32F, DC-9-32F (C-9A), DC-9-32F (C9-B), DC-9-33F, DC-9-34, DC-9-34F, DC-9-41, and DC-9-51 airplanes, certificated in any category; as identified in Boeing Service Bulletin DC9-28-217, Revision 1, dated August 12, 2010.

Subject

(d) Joint Aircraft System Component (JASC)/Air Transport Association (ATA) of America Code 28: Fuel.

Unsafe Condition

(e) This AD was prompted by fuel system reviews conducted by the manufacturer. We are issuing this AD to prevent the potential of ignition sources inside fuel tanks, which in combination with flammable fuel vapors, could result in fuel tank explosions and consequent loss of the airplane.

Compliance

(f) Comply with this AD within the compliance times specified, unless already done.

Installation

(g) Within 60 months after the effective date of this AD: Install new in-line fuses for the fuel level float switch and new in-line fuses for the pressure switch, as applicable; and change the wiring; on the left and right wing forward spars, center wing forward spar, forward auxiliary fuel tank, and aft auxiliary fuel tank, as applicable; in accordance with the Accomplishment Instructions of Boeing Service Bulletin DC9-28-217, Revision 1, dated August 12, 2010.

Credit for Actions Accomplished in Accordance With Previous Service Information

(h) Actions done before the effective date of this AD in accordance with Boeing Service Bulletin DC9-28-217, dated December 1, 2009, are acceptable for compliance with the requirements of paragraph (g) of this AD.

Alternative Methods of Compliance (AMOCs)

(i)(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector or lacking a principal inspector, the manager of the local flight standards district office/certificate holding district office.

Related Information

(j) For more information about this AD, contact Samuel Lee, Aerospace Engineer, Propulsion Branch, ANM-140L, FAA, Los Angeles ACO, 3960 Paramount Boulevard, Lakewood, California 90712-4137; phone: 562-627-5262; fax: 562-627-5210; e-mail: Samuel.Lee@faa.gov.

Material Incorporated by Reference

(k) You must use Boeing Service Bulletin DC9-28-217, Revision 1, dated August 12, 2010, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on March 14, 2011.
Ali Bahrami,
Manager, Transport Airplane Directorate, Aircraft Certification Service.

[FR Doc. 2011-6633 Filed 3-31-11; 8:45 am]

BILLING CODE 4910-13-P